DEPARTMENT OF DEFENSE

Corps of Engineers, Department of the Army

Notice of Intent To Prepare a Draft Environmental Impact Statement for the Proposed Mare Island Disposal Ponds—Commercialization, Solano County, CA

AGENCY: U.S. Army Corps of Engineers, DoD.

ACTION: Notice of intent.

SUMMARY: The U.S. Army Corps of Engineers (USACE), San Francisco District has received an application for a Department of the Army authorization from Roy F. Weston, Inc. (Weston) on behalf of the City of Vallejo, California to deposit up to 11.4 million cubic yards of regionally-dredged material into seven dredged disposal ponds covering an area of 359-acres on the western side of Mare Island in the City of Vallejo in Solano County, California. In accordance with the National Environmental Policy Act (NEPA) of 1969 (42 U.S.C. 4321 et seq.), the USACE has determined that the proposed action may have a significant impact on the quality of the human environment and therefore requires the preparation of the Environmental Impact State (EIS). A combined Environmental Impact Report (EIR)/EIS will be prepared with the USACE as the Federal lead agency and the City of Vallejo as the local lead agency (under the California Environmental Quality Act, or CEQA).

The purpose of the proposed action is to provide for the commercial operation of the former Naval dredge disposal ponds through a 50-year sublease from the City of Vallejo to Weston under the City's long-term lease of the property from the California State Lands Commission.

DATES: A scoping meeting for this project will be held on March 13, 2002, 7 p.m. to 9 p.m.

ADDRESSES: The Scoping meeting will be held at the Vallejo City Hall, 555 Santa Clara, Vallejo, California, 94592. Mail comments to: Elizabeth Dyer, U.S. Army Corps of Engineers, 333 Market Street, CESPN-OR-R, San Francisco, California 94105-2197, or; Brian Dolan, City of Vallejo Planning Department, P.O. Box 3068, 555 Santa Clara Street, Vallejo, California, 94590.

FOR FURTHER INFORMATION CONTACT:

Elizabeth Dyer, 415-977-8451, or electronic mail: edyer@spd.usace.army.mil.

Brian Dolan, 707-649-5458, or electronic mail: bdolan@ci.vallejo.ca.us

SUPPLEMENTARY INFORMATION: 1. Description of Proposed Action: The project is limited to Weston's commercial operation of the former Naval dredge disposal ponds through a 50-year sublease from the City of Vallejo under the City's long-term lease of the property from the State Lands Commission. Individual dredging projects that select the proposed facility as a disposal site are not the subject of this permit application and would require separate review and authorization by the department of the Army. If alternative future uses for the ponds, such as community recreational uses or rehandling facilities are proposed, separate environmental assessments and permit evaluations will have to be conducted for those uses.

The scope of this project is limited to using the seven ponds (2N, 2M, 2S, 4N, 4M, 4S, and 7) during Weston's operation of the site.

a. Install a permanent slurry pipeline from the Carquinez Straits near Pier 35 to Ponds 4S and 2S along the rights-of-way for Tyler and Ribeiro roads.

b. Maintain existing roadways and improve infrastructure that may include roadway upgrades, pump facilities, piping and appurtenances.

c. Use dredge material to increase pond capacity by raising the levees of the seven ponds. Increasing pond capacity will result in pond area loss of up to 17.9 acres of waters of the United States. No mitigation has been proposed for this permanent fill.

d. Transport material in sealed trucks from Pier 35 and mechanically place material from smaller projects into the Pond 7, the one existing separate pond closest to the offloading area.

e. Offload hydraulically or with a mechanical crane dredged material form scows in the vicinity of Pier 35. Fro large projects, the use of dilution water pumped from the Carquinez Straits would involve the temporary and periodic installation of hydraulic offloading equipment and a floating slurry discharge pipe in the waters of Carquinez Strait near Pier 35.

f. Hydraulically place dredged material slurry into six contiguous ponds (2N, 2M, 2S, 4N, 4M, 4S) using a combination of existing and new distribution piping from the offloading area to the six contiguous ponds.

g. Use of gravity settling methods on the placed dredged material slurry to allow solids to separate from excess water in the six contiguous ponds.

h. Discharge clarified decants water by gravity to San Pablo Bay that will meet Regional Water Quality Control Board (RWQCB) waste discharge requirements for effluent.

2. Reasonable Alternatives: In accordance with the requirements of Section 15124 of the State CEQA Guidelines and 40 CFR 1502.14, reasonable alternatives to the proposed action will be evaluated in the Draft EIR/EIS as listed below:

a. Proposed Action (Preferred Alternative): This alternative is the proposed action and is described above.

b. No Action Alternative: All seven ponds remain seasonal wetland habitat.

c. Effluent Discharge into Carquinez Strait: In this alternative, effluent would be piped from the southern most perimeter of ponds 2S and 4S and discharge into Carquinez Strait in the vicinity of Pier 5.

d. Effluent Water Recycling: In this alternative, effluent would be piped from the southern most perimeters of ponds 2S and 4S of Pond 7.

3. Scoping Process: Pursuant to CEQA and NEPA, the City of Vallejo and the USACE must include a scoping process for the Draft EIR/EIS. Scoping primarily involves determining the scope of the issues to be addressed in the Draft EIR/EIS and identifying the anticipated significant issues for in-depth analysis. The scoping process included public participation to integrate public needs and concerns regarding the proposed action into the process.

a. Public Involvement Program: Venues for public comment on the proposed action will include: a public workshop to be conducted jointly by the City of Vallejo and the USACE; the preparation of the Draft EIR/EIS and receipt of public comment in response to the Draft EIR/EIS; and public hearings.

b. Significant Issues to be Analyzed in Depth in the Draft EIR/EIS: The EIS will address the following issues: impacts to aquatic, wetland, and upland ecosystems; water flows; socio-economic impacts; hazardous and toxic waste; water quality; aesthetics and recreation; fish and wildlife resources, including protected species; cultural resources; and other impacts identified through scoping public involvement, and interagency coordination.

c. Environmental Review/Consultation Requirements:

• National Environmental Policy Act

• Section 404 of Clean Water Act

• Section 10 of Rivers & Harbors Act

• Endangered Species Act

• Magnusun-Stevens Act Provisions; Essential Fish Habitat

• Clean Air Act

• National Historic Preservation Act

• Fish and Wildlife Coordination Act

• Coastal Zone Management Act

• Council on Environmental Quality Memorandum—Analysis of Impacts on Prime and Unique Agricultural Lands

4. Scoping Meeting/Availability of Draft EIR/EIS: The City of Vallejo and the USACE will hold a scoping meeting to provide information on the project and receive oral comments on the scope of the document. The scoping meeting for the project will be held at 7:00 PM on Tuesday March 13th, 2002 at the Vallejo City Hall, located at 555 Santa Clara in the City of Vallejo. The Draft EIR/EIS is expected to be available for public review in June 2002.

(Authority: 40 CFR part 1501.7)

Dated: February 26, 2002.
Calvin C. Fong,
Chief, Regulatory Branch.

[FR Doc. 02-5515 Filed 3-7-02; 8:45 am]

BILLING CODE 3710-19-M